NATIONAL CREDIT UNION ADMINISTRATION

Proposed Agency Information Collection Activities; Comment Request

AGENCY: National Credit Union Administration (NCUA).

ACTION: Notice and request for comment.

SUMMARY: The NCUA has approved the publication of a proposal to extend for three years the NCUA Call Report (Form 5300), which is a currently approved information collection, for public comment. Revised instructions are included to improve clarity and accurate reporting. The NCUA is submitting the following extension of the currently approved information collection and revised instructions to the OMB for review and clearance. The revised instructions are proposed to take effect with the September 30, 2025 report date.

DATES: Comments must be received on or before June 23, 2025.

ADDRESSES: You may submit written comments on the information collection by any of the following methods:

Federal Register Portal: https://www.federalregister.gov Find this information collection by searching for “National Credit Union Administration”, then selecting “Past 90 days”, and scrolling through the list of documents.

Regulations.gov: https://www.regulations.gov/search?filter=ncua Find this information collection by scrolling through the search results and looking for NCUA Call Report 2025-Q3.

Rulemakings and Proposals for Comment: https://ncua.gov/regulation-supervision/rulemakings-proposals-comment. NCUA will post a link to the regulations.gov web page where you can submit a comment by selecting Comment.

Mail: 1775 Duke Street, Suite 6070, Alexandria, Virginia 22314.

Fax: 703-519-8161.

Email: PRAComments@NCUA.gov.

Instructions: All submissions must be identified by the OMB Control Number 3133-0004 or by Document Number (Please send comments by one method only).

FOR FURTHER INFORMATION CONTACT: Copies of the submission may be obtained by contacting Dacia Rogers at (703) 518-6547. You may also view the entire information collection request at www.reginfo.gov. Enhanced content is also available from the Notice on the Federal Register website (www.federalregister.gov). In addition, copies of the Call Report Form and Instructions can be obtained at the NCUA's website (https://ncua.gov/regulation-supervision/regulatory-reporting/cuonline).

SUPPLEMENTARY INFORMATION: The NCUA is proposing a three-year extension of the NCUA Form 5300 Call Report with revised instructions.

OMB Number: 3133-0004.

Title: NCUA Form 5300 Call Report.

Type of Review: Extension of a currently approved collection.

Abstract: Sections 106 and 202 of the Federal Credit Union Act require federally insured credit unions (FICUs) to make financial and other reports to the NCUA. Section 741.5 describes the submission method FICUs must use to provide information to NCUA. NCUA Form 5300, Call Report, is used to file quarterly financial and statistical data through NCUA's online portal, CUOnline. The financial and statistical information provided by credit unions is essential to NCUA in carrying out its responsibility for supervising federal credit unions. This information facilitates NCUA monitoring of credit unions with share accounts insured by the National Credit Union Share Insurance Fund (Share Insurance Fund).

Affected Public: Private sector: Not-for-profit institutions.

Respondents: All federal insured credit unions.

Estimated Number of Respondents: 4,455.

Estimated Average Burden per Response: 4.0 hours.

Estimated Total Annual Burden Hours: 71,280.

Reason for Change: The number of respondents decreased.

The proposed revisions to the Form 5300 instructions in this notice would not have a material impact on the existing burden estimates.

Legal Basis and Need for Collections: The Call Report Form 5300 information collections are mandatory under 12 U.S.C. 1756, 1766, and 1782. Except for select sensitive items, the Call Report Form 5300 is not given confidential treatment.

The data credit unions report on the Call Report is essential to the NCUA's supervision and regulation of federal credit unions. This information also facilitates the NCUA's monitoring of other credit unions with Share Insurance Fund coverage for share accounts.

Credit unions submit quarterly Call Report data to the NCUA. Call Report data serves a regulatory or public policy purpose by assisting the NCUA in fulfilling its mission of ensuring the safety and soundness of individual credit unions and the credit union system, protecting consumer financial rights, as well as agency-specific missions affecting federal and state-chartered credit unions, such as ensuring financial stability and administering share insurance.

There are no proposed changes to the Form 5300 Call Report. However, the NCUA is proposing revisions to the 5300 Call Report Instructions to improve clarity and accurate reporting. These revisions are captured on page two of the draft 5300 Call Report Instructions.

Request for Comment

Comments submitted in response to this notice will be summarized and included in the request for Office of Management and Budget approval. All comments will become a matter of public record. The public is invited to submit comments concerning: (a) whether the proposed revisions to the instructions for the collection of information that are the subject of this notice are necessary for the proper performance of the function of the agency, including whether the information will have practical utility; (b) the accuracy of the agency's estimate of the burden of the collection of information as proposed to be revised, including the validity of the methodology and assumptions used; (c) ways to enhance the quality, utility, and clarity of the information to be collected; and (d) ways to minimize the burden of the collection of information on the respondents, including the use of automated collection techniques or other forms of information technology.

By the National Credit Union Administration Board.
Melane Conyers-Ausbrooks,
Secretary of the Board.

[FR Doc. 2025-06971 Filed 4-22-25; 8:45 am]

BILLING CODE 7535-01-P